DEPARTMENT OF COMMERCE

Agency Information Collection Activities; Submission to the Office of Management and Budget (OMB) for Review and Approval; Comment Request; Identifying Actionable Opportunities To Advance Equity and Remove Barriers To Support Underserved Communities

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 2, 2021, during a 60-day comment period. This notice allows for an additional 30 days for public comments.

Agency: Department of Commerce.

Title: Identifying Actionable Opportunities to Advance Equity and Remove Barriers to Support Underserved Communities.

OMB Control Number: 0690-NEW.

Form Number(s): New.

Type of Request: Regular submission, new collection.

Number of Respondents: 150,000.

Average Hours per Response: Varied, dependent upon the data collection method used. The possible response time to complete a questionnaire or survey may be 3 minutes or up to 2 hours to participate in an interview or focus group.

Total Annual Burden Hours: 32,875.

Needs and Uses: In January 2021, President Biden issued Executive Order 13985, `Advancing Racial Equity and Support for Underserved Communities', which established policy instructing the Federal Government to pursue a comprehensive approach to advancing equity for all, including people of color and others who have been historically underserved, marginalized, and adversely affected by persistent poverty and inequality, and tasks agencies with developing proactive policies, regulations, and guidance that affirmatively promote equity and speak to the needs of underserved communities. This will require agencies to review existing policies, rules, regulatory actions, and guidance. It will also require that agencies identify drivers of systemic inequities that are not currently being addressed and develop potential policies to address those inequities.

This new information collection will enable the Department of Commerce to act in accordance with this Executive Order to improve both efficiency and mission delivery, and to remove systemic barriers to opportunities and benefits for underserved communities. To accomplish this mission effectively, Commerce needs ongoing feedback on its programs and services. This information collection item allows Commerce to solicit clients' opinions about the use of products, services, and events.

Commerce will collect, analyze, and interpret information gathered through this information collection to identify gaps in equity and make improvements in accessibility, navigation, use, and service delivery based on insights gathered through developing an understanding of the user experience in underserved communities. Commerce will develop a question bank for all Bureaus to use to solicit information from both federal and non-federal individuals and organizations to develop policies and programs that deliver resources and benefits equitably to all.

These data collection efforts may be either qualitative or quantitative in nature or may consist of mixed methods. Additionally, data may be collected via a variety of means, including but not limited to electronic or social media, direct or indirect observation (i.e., in person, video and audio collections), interviews, questionnaires, surveys, and focus groups. Steps will be taken to ensure anonymity of respondents in each activity covered by this request.

As a general matter, these information collections will not result in any new system of records containing privacy information and will not ask questions of a sensitive nature and matters that are commonly considered private. Personally identifiable information (PII) is collected only to the extent necessary and is not retained.

Affected Public: Collections will be targeted to the solicitation of opinions from respondents who have experience with the Commerce programs, services, or events or may have experience with the programs, services, or events in the future. For the purposes of this request, “customers” are individuals, businesses, and organizations that interact with a Federal Government agency or program, either directly or via a federal contractor. This could include individuals or households; businesses or other for-profit organizations; not-for-profit institutions; State, local or tribal governments; Federal government; and universities.

Frequency: On occasion; Annually.

Respondent's Obligation: Voluntary.

Legal Authority: Executive Order (E.O.) 13985.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments”.

Sheleen Dumas,
Department PRA Clearance Officer, Office of the Chief Information Officer, Commerce Department.

[FR Doc. 2022-25936 Filed 11-28-22; 8:45 am]

BILLING CODE 3510-17-P